Proclamation 7929 of September 9, 2005

Patriot Day, 2005

By the President of the United States of America

A Proclamation

Four years have passed since our country was brutally attacked on a quiet September morning. On that day, thousands of innocent lives were taken from us. The victims and the families who lost loved ones remain in the hearts and prayers of our Nation. We also remember the courage of the firefighters, police officers, emergency rescue personnel, and scores of private citizens who showed us the true meaning of heroism and demonstrated our resolve to the world.

The mission that began on September 11, 2001, continues. Today, we see the virtue of the September 11th heroes embodied in our military personnel, who are taking the fight to our enemies and helping to keep us safe at home. Thousands of other Americans, from intelligence analysts to border guards to countless others, are doing vital work to help defend America and prevent future attacks. We are grateful to all of these men and women and to their families for their service and sacrifice. We honor those who have lost their lives defending our freedom, and we pray that God comfort their families. We pledge that we will not rest until we have won the war on terror.

As we mark this solemn anniversary, I call upon all our citizens to express their patriotism and their gratitude for the blessings of liberty. By flying the flag, supporting military families, and teaching young people about our founding ideals, we honor the lives lost on September 11, 2001, and since, and we help preserve our freedom for future generations.

By a joint resolution approved December 18, 2001 (Public Law 107-89), the Congress has designated September 11 of each year as “Patriot Day.”

NOW, THEREFORE, I, GEORGE W. BUSH, President of the United States of America, do hereby proclaim September 11, 2005, as Patriot Day. I call upon the Governors of the United States and the Commonwealth of Puerto Rico, as well as appropriate officials of all units of government, to direct that the flag be flown at half-staff on Patriot Day. I call upon the people of the United States to observe Patriot Day with appropriate ceremonies and activities, including remembrance services, to display the flag at half-staff from their homes on that day, and to observe a moment of silence beginning at 8:46 a.m. eastern daylight time to honor the innocent victims who lost their lives as a result of the terrorist attacks of September 11, 2001.

IN WITNESS WHEREOF, I have hereunto set my hand this ninth day of September, in the year of our Lord two thousand five, and of the Independence of the United States of America the two hundred and thirtieth.

B

[FR Doc. 05-18370

Filed 9-13-05; 8:45 am]

Billing code 3195-01-P